SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1-31, 2017.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Cabot Oil & Gas Corporation, Pad ID: Jeffers Farms P1, ABR-201112003.R1, Harford Township, Susquehanna County, Pa.; Consumptive Use of Up to 3.5750 mgd; Approval Date: January 4, 2017.

2. Cabot Oil & Gas Corporation, Pad ID: ZuppK P1, ABR-201112004.R1, Harford Township, Susquehanna County, Pa.; Consumptive Use of Up to 3.5750 mgd; Approval Date: January 4, 2017.

3. Cabot Oil & Gas Corporation, Pad ID: MacDowallR P1, ABR-201201002.R1, Harford Township, Susquehanna County, Pa.; Consumptive Use of Up to 3.5750 mgd; Approval Date: January 4, 2017.

4. Chief Oil & Gas, LLC, Pad ID: Postell A Drilling Pad, ABR-201207003.R1, Leroy and Franklin Townships, Bradford County, Pa.; Consumptive Use of Up to 2.0000 mgd; Approval Date: January 4, 2017.

5. Chief Oil & Gas, LLC, Pad ID: Arnold A Drilling Pad, ABR-201207004.R1, Monroe Township, Bradford County, Pa.; Consumptive Use of Up to 2.0000 mgd; Approval Date: January 4, 2017.

6. Range Resources—Appalachia, LLC, Pad ID: Cornwall Mountain, ABR-201112040.R1, Lewis and Cogan House Townships, Lycoming County, Pa.; Consumptive Use of Up to 1.0000 mgd; Approval Date: January 4, 2017.

7. Range Resources—Appalachia, LLC, Pad ID: Cornhill C Unit 1H-5H, ABR-201201016.R1, Cogan House Township, Lycoming County, Pa.; Consumptive Use of Up to 1.0000 mgd; Approval Date: January 4, 2017.

8. Range Resources—Appalachia, LLC, Pad ID: Corson, Eugene 1H-6H, ABR-201201017.R1, Anthony Township, Lycoming County, Pa.; Consumptive Use of Up to 1.0000 mgd; Approval Date: January 4, 2017.

9. SWN Production Company, LLC, Pad ID: PEASE, ABR-201202016.R1, Jackson Township, Susquehanna County, Pa.; Consumptive Use of Up to 4.9990 mgd; Approval Date: January 4, 2017.

10. SWN Production Company, LLC, Pad ID: EASTMAN, ABR-201203004.R1, New Milford Township, Susquehanna County, Pa.; Consumptive Use of Up to 4.9990 mgd; Approval Date: January 4, 2017.

11. SWN Production Company, LLC, Pad ID: GREMMEL, ABR-201203005.R1, Jackson Township, Susquehanna County, Pa.; Consumptive Use of Up to 4.9990 mgd; Approval Date: January 6, 2017.

12. SWN Production Company, LLC, Pad ID: TI-46 Bliss Pad, ABR-201701001, Liberty Township, Tioga County, Pa.; Consumptive Use of Up to 5.0000 mgd; Approval Date: January 6, 2017.

13. SWN Production Company, LLC, Pad ID: TI-07 Cupper Pad, ABR-201701002, Liberty Township, Tioga County, Pa.; Consumptive Use of Up to 5.0000 mgd; Approval Date: January 6, 2017.

14. SWEPI LP, Pad ID: Scheible 898, ABR-201112039.R1, Deerfield Township, Tioga County, Pa.; Consumptive Use of Up to 4.0000 mgd; Approval Date: January 6, 2017.

15. Chief Oil & Gas, LLC, Pad ID: Pa's Farm Family A Drilling Pad, ABR-201207013.R1, Smithfield Township, Bradford County, Pa.; Consumptive Use of Up to 2.0000 mgd; Approval Date: January 10, 2017.

16. SWN Production Company, LLC, Pad ID: BIENKO, ABR-201203006.R1, New Milford and Jackson Townships, Susquehanna County, Pa.; Consumptive Use of Up to 4.9990 mgd; Approval Date: January 11, 2017.

17. Range Resources—Appalachia, LLC, Pad ID: Hess Unit #1H, ABR-201112041.R1, Morris Township, Clearfield County, Pa.; Consumptive Use of Up to 1.0000 mgd; Approval Date: January 13, 2017.

18. SWN Production Company, LLC, Pad ID: MacGeorge Well Pad, ABR-201202011.R1, Silver Lake Township, Susquehanna County, Pa.; Consumptive Use of Up to 4.0000 mgd; Approval Date: January 13, 2017.

19. SWN Production Company, LLC, Pad ID: Conaty Well Pad, ABR-201202026.R1, Silver Lake Township, Susquehanna County, Pa.; Consumptive Use of Up to 4.0000 mgd; Approval Date: January 13, 2017.

20. Chief Oil & Gas, LLC, Pad ID: G & S Big Rigger Drilling Pad, ABR-201207022.R1, Cherry Township, Sullivan County, Pa.; Consumptive Use of Up to 2.0000 mgd; Approval Date: January 20, 2017.

21. Repsol Oil & Gas USA, LLC, Pad ID: Johnson (02 135) K, ABR-201701003, Hamilton Township, Tioga County, Pa.; Consumptive Use of Up to 6.0000 mgd; Approval Date: January 23, 2017.

22. Chesapeake Appalachia, LLC, Pad ID: Brown Homestead, ABR-201207005.R1, Wyalusing Township, Bradford County, Pa.; Consumptive Use of Up to 7.5000 mgd; Approval Date: January 23, 2017.

23. Chesapeake Appalachia, LLC, Pad ID: CDJ, ABR-201207018.R1, Wilmot Township, Bradford County, Pa.; Consumptive Use of Up to 7.5000 mgd; Approval Date: January 23, 2017.

24. Chesapeake Appalachia, LLC, Pad ID: Cherrymills, ABR-201207019.R1, Cherry Township, Sullivan County, Pa.; Consumptive Use of Up to 7.5000 mgd; Approval Date: January 23, 2017.

25. Seneca Resources Corporation, Pad ID: DCNR 100 Pad P, ABR-201205011.R1, Lewis Township, Lycoming County, Pa.; Consumptive Use of Up to 4.0000 mgd; Approval Date: January 27, 2017.

26. Seneca Resources Corporation, Pad ID: DCNR 100 Pad N, ABR-201207014.R1, Lewis Township, Lycoming County, Pa.; Consumptive Use of Up to 4.0000 mgd; Approval Date: January 27, 2017.

27. SWN Production Company, LLC, Pad ID: FIELDS PAD 1, ABR-201202015.R1, Herrick Township, Bradford County, Pa.; Consumptive Use of Up to 4.0000 mgd; Approval Date: January 31, 2017.

Authority: Pub. L. 91-575, 84 Stat. 1509 et seq., 18 CFR parts 806, 807, and 808.

Dated: February 6, 2017.
Stephanie L. Richardson,
Secretary to the Commission.

[FR Doc. 2017-02679 Filed 2-8-17; 8:45 am]

BILLING CODE 7040-01-P